DEPARTMENT OF EDUCATION

[Docket No.: ED-2023-SCC-0184]

Agency Information Collection Activities; Submission to the Office of Management and Budget for Review and Approval; Comment Request; Application for the Educational Flexibility (Ed-Flex) Program

AGENCY: Office of Elementary and Secondary Education (OESE), Department of Education (ED).

ACTION: Notice.

SUMMARY: In accordance with the Paperwork Reduction Act (PRA) of 1995, the Department is proposing a revision of a currently approved information collection request (ICR).

DATES: Interested persons are invited to submit comments on or before February 5, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Even Skloot, 202-453-6515.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for the Educational Flexibility (Ed-Flex) Program.

OMB Control Number: 1810-0737.

Type of Review: A revision of a currently approved ICR.

Respondents/Affected Public: State, Local, and Tribal Governments.

Total Estimated Number of Annual Responses: 32.

Total Estimated Number of Annual Burden Hours: 620.

Abstract: This is a request for a revision to the Educational Flexibility program application to include the annual reporting template. The Educational Flexibility (Ed-Flex) program is authorized under the Education Flexibility Partnership Act of 1999 and was reauthorized by section 9207 of the Every Student Succeeds Act (ESSA). The Ed-Flex program allows the Secretary to authorize a State educational agency (SEA) that serves an eligible State to waive statutory or regulatory requirements applicable to one or more the included programs for any local educational agency (LEAs), educational service agency, or school within the State. Section 4(a)(3) of the Education Flexibility Partnership Act of 1999 requires each SEA desiring to participate in the education flexibility program to submit an application detailing that SEAs education flexibility plan. Section 4(a)(5)(B) requires each SEA that is authorized to become an Ed-Flex Partnership State to submit an annual report on the results of its oversight and the impact of the waivers on school and student performance. Previously, the annual reporting requirement instructions and burden hours were included as part of the application. In order to standardize reporting, we have created an annual reporting template and are increasing the burden hours related to the annual reporting based on feedback from the field. However, overall, there is a decrease in burden due to a change in the estimated number of responses based on past experience with the program.

Dated: January 2, 2024.
Kun Mullan,
PRA Coordinator, Strategic Collections and Clearance, Governance and Strategy Division, Office of Chief Data Officer, Office of Planning, Evaluation and Policy Development.

[FR Doc. 2024-00055 Filed 1-4-24; 8:45 am]

BILLING CODE 4000-01-P